DEPARTMENT OF ENERGY

Federal Energy Regulatory Commission

[Docket No. EG01-43.000, et al.]

PPL Montour, LLC, et al.; Electric Rate and Corporate Regulation Filings

May 10, 2001.

Take notice that the following filings have been made with the Commission:

1. PPL Montour, LLC

[Docket No. EG01-43-000]

Take notice that on May 9, 2001, PPL Montour, LLC tendered for filing with the Federal Energy Regulatory Commission (Commission) a second amended and restated application for redetermination of exempt wholesale generator status pursuant to Section 32 of the Public Utility Holding Company Act of 1935 (PUHCA) and Section 365.3 of the Commission's regulations.

Comment date: May 23, 2001, in accordance with Standard Paragraph E at the end of this notice. The Commission will limit its consideration of comments to those that address the adequacy or accuracy of the amended application.

2. California Independent System Operator Corporation

[Docket Nos. EL00-95-030 and EL00-98-029]

Take notice that on April 26, 2001, the California Independent System Operator Corporation (ISO) tendered for filing Amended and Restated Bylaws. The purpose of the Amendment is to submit amended Bylaws to comply with California Public Utilities Code Section 337, as revised by Assembly Bill 5X, approved by the Governor and filed with the Secretary of State on January 18, 2001.

The ISO requests that the filing be made effective on April 18, 2001.

The ISO states that this filing has been served on the California Public Utilities Commission and all California ISO Scheduling Coordinators.

Comment date: May 25, 2001, in accordance with Standard Paragraph E at the end of this notice.

3. New England Power Pool

[Docket No. ER01-1741-001]

Take notice that on May 2, 2001, the New England Power Pool (NEPOOL) Participants Committee tendered for filing in the above-captioned docket, a correction to a proposed billing procedure filed by NEPOOL with the Commission for informational purposes as part of NEPOOL's April 5, 2001 filing, pursuant to Section 205 of the Federal Power Act, of the NEPOOL Open Access Transmission Tariff Ancillary Service 16 Implementation Rule (the Schedule 16 Implementation Rule). The April 5, 2001 filing of the Implementation Rule is the subject of Docket No. ER01-1741-000. The correction to the billing procedure deletes a reference to a non-existent FERC account in that portion of the billing procedure which describes the Schedule 16 revenue requirement determination, and inserts a reference to the correct FERC accounts to be used in the formula.

The NEPOOL Participants Committee states that copies of these materials were sent to the NEPOOL Participants and the six New England state governors and regulatory commissions, all as indicated in the appropriate Attachments to the April 5, 2001 filing.

Comment date: May 23, 2001, in accordance with Standard Paragraph E at the end of this notice.

4. Cinergy Services, Inc.

[Docket No. ER01-1966-000]

Take notice that on May 2, 2001, Cinergy Services, Inc. (Cinergy), as agent for and on behalf of The Cincinnati Gas & Electric Company and PSI Energy, Inc., tendered for filing a confidential long-term power sales agreement with Alcoa Power Generating, Inc. Cinergy also filed a redacted, non-confidential version of the agreement.

Comment date: May 23, 2001, in accordance with Standard Paragraph E at the end of this notice.

5. Idaho Power Company

[Docket No. ER01-1976-000]

Take notice that on May 7, 2001, Idaho Power Company tendered for filing a Service Agreement for Firm Point-to-Point Transmission Service between Idaho Power Company and Watts United Power, L.L.C. under its open access transmission tariff in the above-captioned proceeding.

Comment date: May 29, 2001, in accordance with Standard Paragraph E at the end of this notice.

6. Idaho Power Company

[Docket No. ER01-1977-000]

Take notice that on May 7, 2001, Idaho Power Company tendered for filing a revised Service Agreement for Firm Point-to-Point Transmission Service between Idaho Power Company and Arizona Public Service Company under its open access transmission tariff in the above-captioned proceeding.

Comment date: May 29, 2001, in accordance with Standard Paragraph E at the end of this notice.

7. Idaho Power Company

[Docket No. ER01-1978-000]

Take notice that on May 7, 2001, Idaho Power Company tendered for filing a Service Agreement for Non-Firm Point-to-Point Transmission Service between Idaho Power Company and Watts United Power, L.L.C. under its open access transmission tariff in the above-captioned proceeding.

Comment date: May 29, 2001, in accordance with Standard Paragraph E at the end of this notice.

8. Cinergy Services, Inc.

[Docket No. ER01-1979-000]

Take notice that on May 7, 2001, Cinergy Services, Inc. (Provider) tendered for filing a Non-Firm Point-To-Point Service Agreement under Cinergy's Open Access Transmission Service Tariff (OATT) entered into between Cinergy and NRG Power Marketing Inc. (Customer).

Provider and Customer are requesting an effective date of April 20, 2001.

Comment date: May 29, 2001, in accordance with Standard Paragraph E at the end of this notice.

9. Cinergy Services, Inc.

[Docket No. ER01-1980-000]

Take notice that on May 7, 2001, Cinergy Services, Inc. (Cinergy) tendered for filing an executed service agreement between Cinergy and Carolina Power & Light Company under COC Market-Based Power Sales Tariff-MB. This service agreement supercedes the existing service agreement under Cinergy FERC Electric Power Sales Tariff, Original Volume No. 4.

Cinergy requests an effective date of April 24, 1996.

Comment date: May 29, 2001, in accordance with Standard Paragraph E at the end of this notice.

10. Cinergy Services, Inc.

[Docket No. ER01-1981-000]

Take notice that on May 7, 2001, Cinergy Services, Inc. (Cinergy) tendered for filing a Market-Based Service Agreement under Cinergy's Market-Based Power Sales Standard Tariff-MB (the Tariff) entered into between Cinergy and Louisiana Generating LLC (LaGen).

Cinergy and LaGen are requesting an effective date of May 1, 2001.

Comment date: May 29, 2001, in accordance with Standard Paragraph E at the end of this notice.

11. Texas-New Mexico Power Company

[Docket No. ER01-1982-000]

Take notice that on May 7, 2001, Texas-New Mexico Power Company (TNMP) tendered for filing the following service agreements under its open access transmission tariff: Non-Firm Point-to-Point Service Agreement between TNMP and Public Service Company of Colorado, dated March 28, 2001; Non-Firm Point-to-Point Service Agreement between TNMP and El Paso Merchant Energy, L.P., dated March 29, 2001; and Non-Firm Point-to-Point Service Agreement between TNMP and Cargill-Alliant, LLC, dated May 1, 2001.

TNMP requests waiver of the Commission's prior notice requirement to permit the service agreements to become effective on the date(s) listed above.

Comment date: May 29, 2001, in accordance with Standard Paragraph E at the end of this notice.

12. California Independent System Operator Corporation

[Docket No. ER01-1983-000]

Take notice that on May 7, 2001, the California Independent System Operator Corporation, tendered for filing a Participating Generator Agreement between the ISO and Madera Power, LLC for acceptance by the Commission.

The ISO states that this filing has been served on Madera Power, LLC and the California Public Utilities Commission.

The ISO is requesting waiver of the 60-day notice requirement to allow the Participating Generator Agreement to be made effective April 27, 2001.

Comment date: May 29, 2001, in accordance with Standard Paragraph E at the end of this notice.

13. California Independent System Operator Corporation

[Docket No. ER01-1984-000]

Take notice that on May 7, 2001, the California Independent System Operator Corporation, tendered for filing a Meter Service Agreement for ISO Metered Entities between the ISO and Madera Power, LLC for acceptance by the Commission.

The ISO states that this filing has been served on Madera Power, LLC and the California Public Utilities Commission.

The ISO is requesting waiver of the 60-day notice requirement to allow the Meter Service Agreement for ISO Metered Entities to be made effective April 27, 2001.

Comment date: May 29, 2001, in accordance with Standard Paragraph E at the end of this notice.

14. Cinergy Services, Inc.

[Docket No. ER01-1985-000]

Take notice that on May 7, 2001, Cinergy Services, Inc. (Provider) tendered for filing a Firm Point-To-Point Service Agreement under Cinergy's Open Access Transmission Service Tariff (OATT) entered into between Provider and NRG Power Marketing Inc. (Customer).

Provider and Customer are requesting an effective date of April 20, 2001.

Comment date: May 29, 2001, in accordance with Standard Paragraph E at the end of this notice.

15. Niagara Mohawk Power Corporation

[Docket No. ER01-1986-000]

Take notice that on May 7, 2001, Niagara Mohawk Power Corporation, pursuant to Section 205 of the Federal Power Act and Part 35 of the Commission's regulations, tendered for filing acceptance of certain interconnection agreements and a transmission owners agreement in connection with the sale of various interests in Unit 1 of the Nine Mile Point nuclear plant and Unit 2 of the Nine Mile Point nuclear plant located in Scriba, Oswega County, New York. Further information regarding this contemplated sale is available in the files of the Commission under Docket No. EC01-75-000.

Comment date: May 29, 2001, in accordance with Standard Paragraph E at the end of this notice.

16. Nine Mile Point Nuclear Station, LLC

[Docket No. ER01-1987-000]

Take notice that on May 7, 2001, Nine Mile Point Nuclear Station, LLC (Nine Mile LLC) tendered for filing, pursuant to Section 205 of the Federal Power Act and Part 35 of the Commission's regulations, a Joint Interconnecting Facilities Operating Agreement for Nine Mile Point Nuclear Station Unit No. 2 by and between Nine Mile LLC and Long Island Lighting Company (d/b/a LIPA).

Comment date: May 29, 2001, in accordance with Standard Paragraph E at the end of this notice.

17. Duke Energy Lee, LLC

[Docket No. ER01-1988-000]

Take notice that on May 7, 2001, Duke Energy Lee, LLC (Duke Lee) tendered for filing its proposed Emergency Redispatch Tariff. The tariff provides for the dispatch of the Duke Lee Generation Facility during emergencies by Commonwealth Edison Company (ComEd), the utility with which the facility is interconnected.

Duke Lee requests that the proposed tariff become effective on May 9, 2001 the date that the first unit of the facility is expected to go into commercial operation. Duke Lee has served copies of the filing on the Illinois Commerce Commission and ComEd, the only customer under the proposed tariff.

Comment date: May 29, 2001, in accordance with Standard Paragraph E at the end of this notice.

18. Southwest Power Pool, Inc.

[Docket No. ER01-1989-000]

Take notice that on May 7, 2001, Southwest Power Pool, Inc. (SPP) tendered for filing on behalf of its members revised pages to the currently effective version of its tariff (SPP Tariff) intended to institute certain changes to accommodate the implementation of retail access in Texas and elsewhere, and to update or clarify other portions of the Tariff.

SPP seeks an effective date of June 1, 2001, for these changes, consistent with the commencement of the retail access pilot program in Texas.

Copies of this filing have been served on all affected state commissions, SPP customers, and SPP members.

Comment date: May 29, 2001, in accordance with Standard Paragraph E at the end of this notice.

19. Avista Corp.

[Docket No. ER01-2000-000]

Take notice that on May 7, 2001, Avista Corporation (AVA) tendered for filing with the Federal Energy Regulatory Commission executed Service Agreements for Short-Term Firm and Non-Firm and Point-To-Point Transmission Service under AVA's Open Access Transmission Tariff—FERC Electric Tariff, Volume No. 8 with Conoco Gas and Power Marketing. AVA requests the Service Agreements be given an effective date of April 20, 2001.

Comment date: May 29, 2001, in accordance with Standard Paragraph E at the end of this notice.

20. Alliant Energy Corporate Services, Inc.

[Docket No. ER01-2001-000]

Take notice that on May 7, 2001, Alliant Energy Corporate Services, Inc. (Alliant Energy Corporate Services) on behalf of IES Utilities Inc. (IES), Interstate Power Company (IPC) and Wisconsin Power and Light Company (WPL) collectively the Alliant Energy Operating Companies, tendered for filing six copies of Negotiated Capacity Transaction (Agreement) between IES, IPC and WPL for the period May 1, 2001 through April 30, 2002. The Agreement was negotiated to provide service under the Alliant Energy System Coordination and Operating Agreement among IES Utilities Inc., Interstate Power Company, Wisconsin Power and Light Company and Alliant Energy Corporate Services.

Comment date: May 29, 2001, in accordance with Standard Paragraph E at the end of this notice.

21. The Detroit Edison Company

[Docket No. ER01-2002-000]

Take notice that on May 7, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Mirant Americas Energy Marketing, LP, dated as of March 29, 2001. The parties have not engaged in any transactions under the Service Agreements prior to thirty days to this filing.

Detroit Edison requests that the Service Agreements be made effective as rate schedules as of April 30, 2001.

Comment date: May 29, 2001, in accordance with Standard Paragraph E at the end of this notice.

22. The Detroit Edison Company

[Docket No. ER01-2003-000]

Take notice that on May 7, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Allegheny Energy Supply Company, LLC dated as of April 20, 2001. The parties have not engaged in any transactions under the Service Agreements prior to thirty days to this filing.

Detroit Edison requests that the Service Agreements be made effective as rate schedules as of May 21, 2001.

Comment date: May 29, 2001, in accordance with Standard Paragraph E at the end of this notice.

23. The Detroit Edison Company

[Docket No. ER01-2005-000]

Take notice that on May 7, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Consumers Energy d/b/a Consumers Energy Traders dated as of February 13, 2001. The parties have not engaged in any transactions under the Service Agreements prior to thirty days to this filing.

Detroit Edison requests that the Service Agreements be made effective as rate schedules as of March 14, 2001.

Comment date: May 29, 2001, in accordance with Standard Paragraph E at the end of this notice.

24. The Detroit Edison Company

[Docket No. ER01-2006-000]

Take notice that on May 7, 2001, The Detroit Edison Company (Detroit Edison) tendered for filing a Service Agreement (Service Agreement) for Short-term Firm Point-to-Point Transmission Service under the Joint Open Access Transmission Tariff of Consumers Energy Company and Detroit Edison, FERC Electric Tariff No. 1. This Service Agreement is between Detroit Edison and First Energy Services Corporation, dated as of March 30, 2001. The parties have not engaged in any transactions under the Service Agreements prior to thirty days to this filing.

Detroit Edison requests that the Service Agreements be made effective as rate schedules as of April 30, 2001.

Comment date: May 29, 2001, in accordance with Standard Paragraph E at the end of this notice.

25. The Detroit Edison Company

[Docket No. ER01-2007-000]

Take notice that on May 7, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Exelon Generation Company, LLC dated as of April 23, 2001. The parties have not engaged in any transactions under the Service Agreements prior to thirty days to this filing.

Detroit Edison requests that the Service Agreements be made effective as rate schedules.

Comment date: May 29, 2001, in accordance with Standard Paragraph E at the end of this notice.

26. The Detroit Edison Company

[Docket No. ER01-2008-000]

Take notice that on May 7, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Wisconsin Electric Power Company dated as of February 13, 2001. The parties have not engaged in any transactions under the Service Agreements prior to thirty days to this filing.

Detroit Edison requests that the Service Agreements be made effective as rate schedules as of March 14, 2001.

Comment date: May 29, 2001, in accordance with Standard Paragraph E at the end of this notice.

27. The Detroit Edison Company

[Docket No. ER01-2009-000]

Take notice that on May 7, 2001, The Detroit Edison Company (Detroit Edison) tendered for filing a Service Agreement (Service Agreement) for Short-term Firm Point-to-Point Transmission Service under the Joint Open Access Transmission Tariff of Consumers Energy Company and Detroit Edison, FERC Electric Tariff No. 1. This Service Agreement is between Detroit Edison and Quest Energy, LLC, dated as of February 1, 2001. The parties have not engaged in any transactions under the Service Agreement prior to thirty days to this filing.

Detroit Edison requests that the Service Agreement be made effective as rate schedules as of March 2, 2001.

Comment date: May 29, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12396 Filed 5-16-01; 8:45 am]

BILLING CODE 6717-01-M